DEPARTMENT OF AGRICULTURE

Forest Service

Implementation of the National Forest Organizational Camp Fee Improvement Act of 2003

AGENCY: USDA, Forest Service.

ACTION: Notice of issuance of agency directives.

SUMMARY: The Forest Service is revising its policy for assessing fees for organizational camps located on National Forest System lands. These revisions are necessary to conform agency policy with the requirements in the National Forest Organizational Camp Fee Improvement Act of 2003. These revisions involve amendments and interim directives (IDs) to Forest Service Manual (FSM) 2340 (Amendment 2300-2004-2); FSM 2700, zero code chapter (Amendment 2700-2004-3); FSM 2720 (Amendment 2700-2004-4); and Forest Service Handbook (FSH) 2709.11, chapter 30 (ID 2709.11-2004-1), chapter 40 (ID 2709.11-2004-2), and chapter 50 (Amendment 2709.11-2004-2).

DATES: These amendments and IDs are effective May 4, 2004.

ADDRESSES: These amendments and IDs are available electronically from the Forest Service via the World Wide Web at http://www.fs.fed.us/im/directives. A copy of the amendments and the IDs may also be obtained by contacting Kenneth Karkula, USDA, Forest Service, Recreation, Heritage, and Wilderness Resources Staff (Mail Stop 1125), 1400 Independence Avenue, SW., Washington, DC 20250-1125 (202-205-1426).

FOR FURTHER INFORMATION CONTACT: Kenneth Karkula, Recreation, Heritage, and Wilderness Resources Staff (202-205-1426), USDA, Forest Service.

Dated: April 25, 2004.
Sally Collins,
Associate Chief.

[FR Doc. 04-10064 Filed 5-3-04; 8:45 am]

BILLING CODE 3410-11-P